ENVIRONMENTAL PROTECTION AGENCY

40 CFR Part 52

[WI-113-7343; FRL-7508-4]

Approval and Promulgation of Implementation Plans; Wisconsin; Withdrawal of Direct Final Rule

AGENCY: Environmental Protection Agency (EPA).

ACTION: Withdrawal of direct final rule.

SUMMARY: Due to an adverse comment, the EPA is withdrawing the direct final rule providing new compliance options for sources subject to Wisconsin rules that limit emissions of nitrogen oxides (NOX) from large electricity generating units in the Milwaukee-Racine ozone non-attainment area. In the direct final rule published on April 10, 2003 (68 FR 17551), we stated that if we receive any adverse comments by May 12, 2003, the rule would be withdrawn and not take effect. EPA subsequently received adverse comments. EPA will address the comments received in a subsequent final action based upon the proposed action also published on April 10, 2003 (68 FR 17576). EPA will not institute a second comment period on this action.

DATES: The direct final rule is withdrawn as of June 6, 2003.

FOR FURTHER INFORMATION CONTACT: Alexis Cain, Environmental Scientist, Regulation Development Section, Air Programs Branch (AR-18J), U.S. Environmental Protection Agency, Region 5, 77 West Jackson Boulevard, Chicago, Illinois 60604, Telephone: (312) 886-6524.

List of Subjects in 40 CFR Part 52

Environmental protection, Air pollution control, Nitrogen dioxide.

Authority: 42 U.S.C. 7401 et seq.

Dated: May 22, 2003.
Steven Rothblatt,
Acting Regional Administrator, Region 5.

PART 52—[AMENDED]

Accordingly, the addition of 40 CFR 52.2570(c)(108) is withdrawn as of June 6, 2003.

[FR Doc. 03-14188 Filed 6-5-03; 8:45 am]

BILLING CODE 6560-50-P